Proclamation 10743 of April 30, 2024

Loyalty Day, 2024

By the President of the United States of America

A Proclamation

America is home to people from every place on Earth, some whose ancestors have been here for thousands of years and others who have only just arrived. We all came from somewhere, but we are all American—loyal not to a person or a place but to an idea: We are all created equal and deserve to be treated equally throughout our lives. This idea is our Nation's North Star. While we have never fully lived up to it, we have never stopped pursuing it. This Loyalty Day, we promise to always keep fighting for a more perfect Union.

Our Nation's North Star guided us through historic challenges to Nation-defining triumphs. Through abolition, the Civil War, women's suffrage, the Great Depression, World Wars, and the Civil Rights Movement, the idea of America animated our many movements and gave us hope for a better future. Today, that light—that promise—still shines brightly as we build an America that is more prosperous, free, and just.

Now more than ever, we must stay loyal to our North Star and the founding values that are the bedrock of this Nation. In the face of forces that want to pull America back into the past, we must honor our Constitution and uphold the rule of law. We must respect free and fair elections and honor the will of the people. We must reject violence as a political tool and stamp out hate, giving it no safe harbor in America. We must open the doors of opportunity wider for everyone and remember that diversity is our greatest strength. We must respect the dignity and integrity of our service members, who put their lives on the line for our flag. We must believe in honesty, decency, and respect for others as well as patriotism, justice for all, and possibilities.

Today, we also recognize the men and women across the country who have protected and defended our Nation. We owe a debt of gratitude to our brave service members and veterans along with their families, caregivers, and survivors, who have sacrificed so much to defend our democracy around the globe. We thank all the courageous first responders who protect our communities, the diplomats who support and protect American citizens abroad, and all the hardworking Americans who are the engines of our economy and strengthen our Nation.

This Loyalty Day, we recognize that nothing about our democracy is guaranteed—we must defend it, protect it, and stand up for it. Our democracy began and will be preserved in “We the People,” in the habits of our hearts, and in our character—in an optimism that is tested yet endures, a courage that digs deep when we need it, and an empathy that fuels our hearts and inspires all of us to see each other not as enemies but as fellow Americans.

To celebrate our shared American spirit and the sacrifices so many of our fellow citizens have made, the Congress, by Public Law 85-529, as amended, has designated the first day of May each year as Loyalty Day.

NOW, THEREFORE, I, JOSEPH R. BIDEN JR., President of the United States of America, do hereby proclaim May 1, 2024, as Loyalty Day. This Loyalty Day, I call upon the people of the United States to join in this national observance, display the American Flag, and pledge allegiance to our Republic for which it stands.

IN WITNESS WHEREOF, I have hereunto set my hand this thirtieth day of April, in the year of our Lord two thousand twenty-four, and of the Independence of the United States of America the two hundred and forty-eighth.

[FR Doc. 2024-09823

Filed 5-2-24; 8:45 am]

Billing code 3395-F4-P